DEPARTMENT OF EDUCATION

Information Quality Guidelines

AGENCY: Office of the Chief Information Officer, Department of Education.

ACTION: Notice of availability.

SUMMARY: Section 515 of the Treasury and General Government Appropriations Act for Fiscal Year 2001 (Public Law 106-554) requires all Federal agencies covered by the Paperwork Reduction Act (44 U.S.C. Chapter 35), including the Department of Education, to issue guidelines by October 1, 2002, for the purpose of “ensuring and maximizing the quality, objectivity, utility, and integrity of information (including statistical information) disseminated by the agency.” (Public Law 106-554). The agency guidelines must be consistent with government-wide guidelines published by the Office of Management and Budget (66 FR 49718, September 28, 2001; 67 FR 8452, February 22, 2002) and must include “administrative mechanisms allowing affected persons to seek and obtain correction of information” that the agency maintains and disseminates, and that does not comply with the OMB or agency guidelines.

This Notice of Availability informs the public that the Department of Education has written draft guidelines, which are available for public information and comment as described in this notice.

DATES: We must receive your comments on or before May 31, 2002.

ADDRESSES: Address all comments about the guidelines to the Office of the Chief Information Officer, U.S. Department of Education, 7th and D Streets, SW., room 4082, Washington, DC 20202-4580. If you prefer to send your comments through the Internet, use the following address: ocio.section515@ed.gov.

You must include the term “Section 515 Information Quality Guidelines” in the subject line of your electronic message.

FOR FURTHER INFORMATION CONTACT: For a Copy of the Guidelines and Further Information: The guidelines are available through the Internet at the following site: www.ed.gov/offices/ocio/section515/index.html.

Alternatively, you may contact Arthur Graham, U.S. Department of Education, 7th and D Streets, SW., room 4060A, Washington, DC 20202-4651. Telephone: (202) 260-0710.

If you use a telecommunications device for the deaf (TDD), you may call the Federal Information Relay Service (FIRS) at 1-800-877-8339.

Individuals with disabilities may obtain this document in an alternative format (e.g., Braille, large print, audiotape, or computer diskette) on request to the contact person listed under For a Copy of the Guidelines and Further Information.

SUPPLEMENTARY INFORMATION:

Invitation to Comment

We invite you to submit comments regarding the guidelines. During and after the comment period, you may view all public comments about these guidelines at the following site: www.ed.gov/offices/ocio/section515/index.html.

Assistance to Individuals With Disabilities in Reviewing the Rulemaking Record

On request, we will supply an appropriate aid, such as a reader or print magnifier, to an individual with a disability who needs assistance to review the comments or other documents in the public record for these guidelines. If you want to schedule an appointment for this type of aid, please contact the person listed under For a Copy of the Guidelines and Further Information.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, D.C., area at (202) 512-1530.

Note: The official version of this document is the document published in the Federal Register. Free Internet access to the official edition of the Federal Register and the Code of Federal Regulations is available on GPO Access at: http://www.access.gpo.gov/nara/index.html.

Dated: April 26, 2002.
Craig B. Luigart,
Chief Information Officer.

[FR Doc. 02-10771 Filed 4-30-02; 8:45 am]

BILLING CODE 4001-01-P